DEPARTMENT OF THE INTERIOR

Fish and Wildlife Service

50 CFR Part 17

[Docket No. FWS-R5-ES-2011-0024]; [4500030113]

RIN 1018-AY98

Endangered and Threatened Wildlife and Plants; Listing the Northern Long-Eared Bat as an Endangered Species

AGENCY: Fish and Wildlife Service, Interior.

ACTION: Proposed rule; extension of comment period.

SUMMARY: On October 2, 2013, we, the U.S. Fish and Wildlife Service (Service), announced a 12-month finding on a petition to list the eastern small-footed bat (Myotis leibii) and the northern long-eared bat (Myotis septentrionalis) as endangered or threatened under the Endangered Species Act of 1973, as amended (Act) and to designate critical habitat. After review of the best available scientific and commercial information, we found that listing the eastern small-footed bat is not warranted but listing the northern long-eared bat is warranted. Accordingly, we proposed to list the northern long-eared bat as an endangered species throughout its range under the Act. In the October 2, 2013, proposed rule, we also determined that critical habitat for the northern long-eared bat is not determinable at this time.

We announce the extension of the comment period for our October 2, 2013, proposed rule to ensure the public has sufficient time to comment on the proposal for this wide-ranging species that involves many stakeholders. The Service seeks data and comments from the public on the October 2, 2013, proposed listing rule for the northern long-eared bat.

DATES: The comment period for the proposed rule published October 2, 2013 (78 FR 61046), is extended. We request that comments on this proposal be submitted by the close of business on January 2, 2014.

ADDRESSES: Document availability: You may obtain copies of the proposed rule on the Internet at http://www.regulations.gov at Docket No. FWS-R5-ES-2011-0024, or by mail from U.S. Fish and Wildlife Service, Green Bay, Wisconsin Field Office (see FOR FURTHER INFORMATION CONTACT).

Written comments: You may submit comments by one of the following methods:

(1) Electronically: Go to the Federal eRulemaking Portal: http://www.regulations.gov. In the Search box, enter Docket No. FWS-R5-ES-2011-0024, which is the docket number for this rulemaking. Then, in the Search panel on the left side of the screen, under the Document Type heading, click on the Proposed Rules link to locate this document. You may submit a comment by clicking on “Comment Now!” If your comments will fit in the provided comment box, please use this feature of http://www.regulations.gov, as it is most compatible with our comment review procedures. If you attach your comments as a separate document, our preferred file format is Microsoft Word. If you attach multiple comments (such as form letters), our preferred format is a spreadsheet in Microsoft Excel.

(2) By hard copy: Submit by U.S. mail or hand-delivery to: Public Comments Processing, Attn: FWS-R5-ES-2011-0024; Division of Policy and Directives Management; U.S. Fish and Wildlife Service; 4401 N. Fairfax Drive, MS 2042-PDM; Arlington, VA 22203.

We request that you send comments only by the methods described above. We will post all information received on http://www.regulations.gov. This generally means that we will post any personal information you provide us (see the Information Requested section below for more details).

FOR FURTHER INFORMATION CONTACT: Peter Fasbender, Field Supervisor, U.S. Fish and Wildlife Service, Green Bay Ecological Services Office, 2661 Scott Tower Dr., New Franken, Wisconsin 54229; by telephone (920) 866-3650 or by facsimile (920) 866-1710. If you use a telecommunications device for the deaf (TDD), please call the Federal Information Relay Service (FIRS) at 800-877-8339.

SUPPLEMENTARY INFORMATION:

Background

On October 2, 2013, we published a 12-month finding on a petition to list the eastern small-footed bat (Myotis leibii) and the northern long-eared bat (Myotis septentrionalis) as endangered or threatened under the Endangered Species Act of 1973, as amended (Act) and to designate critical habitat (78 FR 61046). After review of the best available scientific and commercial information, we find that listing the eastern small-footed bat is not warranted but listing the northern long-eared bat is warranted. Accordingly, we proposed to list the northern long-eared bat as an endangered species throughout its range under the Act and also determined that critical habitat for the northern long-eared bat is not determinable at this time (78 FR 61046).

We received several requests to extend the public comment period on the proposed endangered species status of the northern long-eared bat beyond the December 2, 2013, due date. The northern long-eared bat has an extensive range; in the United States, it occurs in 39 states, and thus there are many involved stakeholders. Thus, in order to ensure that the public has an adequate opportunity to review and comment on our proposed rule, we are extending the comment period for an additional 30 days.

Information Requested

We intend that any final action resulting from this proposed rule will be based on the best scientific and commercial data available and be as accurate and as effective as possible. Therefore, we request comments or information from other concerned Federal and State agencies, the scientific community, or any other interested party concerning this proposed rule. We particularly seek comments regarding the northern long-eared bat concerning:

(1) The species' biology, range, and population trends, including:

(a) Habitat requirements for feeding, breeding, and sheltering;

(b) Genetics and taxonomy;

(c) Historical and current range, including distribution patterns;

(d) Historical and current population levels, and current and projected trends; and

(e) Past and ongoing conservation measures for the species, its habitat, or both.

(2) Any information on the biological or ecological requirements of the species, and ongoing conservation measures for the species and its habitat.

(3) Biological, commercial trade, or other relevant data concerning any threats (or lack thereof) to this species and regulations that may be addressing those threats.

(4) Current or planned activities in the areas occupied by the species and possible impacts of these activities on this species.

(5) Additional information regarding the threats to the species under the five listing factors, which are:

(a) The present or threatened destruction, modification, or curtailment of its habitat or range;

(b) Overutilization for commercial, recreational, scientific, or educational purposes;

(c) Disease or predation;

(d) The inadequacy of existing regulatory mechanisms; and

(e) Other natural or manmade factors affecting its continued existence.

(6) The reasons why areas should or should not be designated as critical habitat as provided by section 4 of the Act (16 U.S.C. 1531 et seq.), including the possible risks or benefits of designating critical habitat, including risks associated with publication of maps designating any area on which this species may be located, now or in the future, as critical habitat.

(7) The following specific information on:

(a) The amount and distribution of habitat for the northern long-eared bat;

(b) What areas, that are currently occupied and that contain the physical and biological features essential to the conservation of this species, should be included in a critical habitat designation and why;

(c) Special management considerations or protection that may be needed for the essential features in potential critical habitat areas, including managing for the potential effects of climate change;

(d) What areas not occupied at the time of listing are essential for the conservation of this species and why;

(e) The amount of forest removal occurring within known summer habitat for this species;

(f) Information on summer roost habitat requirements that are essential for the conservation of the species and why; and

(g) Information on species winter habitat (hibernacula) features and requirements for the species.

(8) Information on the projected and reasonably likely impacts of changing environmental conditions resulting from climate change on the species and its habitat.

For more background on our proposed rule, see the October 2, 2013, Federal Register. The proposed rule is available at the Federal eRulemaking Portal at http://www.regulations.gov (see ADDRESSES section above).

If you previously submitted comments or information on the proposed rule, please do not resubmit them. We have incorporated them into the public record, and we will fully consider them in our final rulemaking. Our final determination concerning this proposed rulemaking will take into consideration all written comments and any additional information we receive.

Please note that submissions merely stating support for or opposition to the action under consideration without providing supporting information, although noted, will not be considered in making a determination, as section 4(b)(1)(A) of the Act directs that determinations as to whether any species is an endangered or threatened species must be made “solely on the basis of the best scientific and commercial data available.”

You may submit your comments and materials concerning this proposed rule by one of the methods listed in ADDRESSES. We request that you send comments only by the methods described in the ADDRESSES section. If you submit information via http://www.regulations.gov, your entire submission—including any personal identifying information—will be posted on the Web site. If your submission is made via a hardcopy that includes personal identifying information, you may request at the top of your document that we withhold this information from public review. However, we cannot guarantee that we will be able to do so. We will post all hardcopy submissions on http://www.regulations.gov. Please include sufficient information with your comments to allow us to verify any scientific or commercial information you include.

Comments and materials we receive, as well as supporting documentation we used in preparing this proposed rule, will be available for public inspection on http://www.regulations.gov, or by appointment, during normal business hours, at the U.S. Fish and Wildlife Service, Green Bay, Wisconsin Field Office (see FOR FURTHER INFORMATION CONTACT). You may obtain copies of the proposed rule on the Internet at http://www.regulations.gov at Docket No. FWS-R5-ES-2011-0024, or by mail from U.S. Fish and Wildlife Service, Green Bay, Wisconsin Field Office (see FOR FURTHER INFORMATION CONTACT).

Authors

The primary authors of this notice are the staff members of the Green Bay, Wisconsin, Field Office.

Authority

The authority for this action is the Endangered Species Act of 1973, as amended (16 U.S.C. 1531 et seq.).

Dated: November 21, 2013.
Stephen Guertin,
Acting Director, U.S. Fish and Wildlife Service.

[FR Doc. 2013-28705 Filed 11-29-13; 8:45 am]

BILLING CODE 4310-55-P